FEDERAL MARITIME COMMISSION

Sunshine Act Meeting

Time and Date: April 21, 2010-10 a.m.

Place: 800 North Capitol Street, NW., First Floor Hearing Room, Washington, DC.

Status: Part of the meeting will be in Open Session, the remainder of the meeting will be in Closed Session.

Matters To Be Considered

Open Session

1. FY 2010 Budget Status Update.

2. FMC EU Study Status Update.

Closed Session

1. Staff Briefing on China Shipping Issues.

2. Staff Briefing Regarding Global Economic Conditions and Impact on Stakeholders.

Contact Person for More Information: Karen V. Gregory, Secretary, (202) 523-5725.

Karen V. Gregory,
Secretary.

[FR Doc. 2010-8952 Filed 4-14-10; 4:15 pm]

BILLING CODE 6730-01-P